DEPARTMENT OF THE TREASURY

Submission for OMB Review; Comment Request

May 18, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 25, 2004 to be assured of consideration.

Financial Management Service (FMS)

OMB Number: 1510-0012.

Form Number: FMS Form 6314.

Type of Review: Extension.

Title: Annual Financial Statements of Surety Companies—Schedule F.

Description: Surety and Insurance Companies report information used to compute the amount of authorized reinsurance to determine Treasury Certified Companies' underwriting limitations, which are published in Treasury Circular 570 for use by Federal bond approving officers.

Respondents: Business or other for-profit.

Estimated Number of Respondents: 341.

Estimated Burden Hours Per Respondent: 48 hours, 45 minutes.

Frequency of Response: Annually.

Estimated Total Reporting: 14,458 hours.

Clearance Officer: Jiovannah L. Diggs, (202) 874-7662, Financial Management Service, Administrative Programs Division, Records and Information Management Program, 3700 East West Highway, Room 144, Hyattsville, MD 20782.

OMB Reviewer: Joseph F. Lackey, Jr., (202) 395-7316, Office of Management and Budget, Room 10235, New Executive Office Building, Washington, DC 20503.

Lois K. Holland,
Treasury PRA Clearance Officer.

[FR Doc. 04-11899 Filed 5-25-04; 8:45 am]

BILLING CODE 4810-35-P